DEPARTMENT OF THE INTERIOR

Bureau of Indian Affairs

Request for Comments on Land Acquisitions Information Collection

AGENCY: Bureau of Indian Affairs, Interior.

ACTION: Notice of proposed renewal of an information collection.

SUMMARY: In compliance with the Paperwork Reduction Act of 1995, the Bureau of Indian Affairs (BIA) is seeking comments on the proposed renewal of the information collection, 25 CFR part 151 Land Acquisitions, OMB Control Number 1076-0100.

DATES: Submit comments on or before February 12, 2007, to be assured of consideration.

ADDRESSES: Send comments to Ben Burshia, Bureau of Indian Affairs, Division of Real Estate Services, Office of the Deputy Bureau Director—Trust Services, Mail Stop 4639-MIB, 1849 C Street, NW., Washington, DC 20240-0001. Submission by facsimile should be sent to (202) 219-1065. Electronic submission of comments is not available at this time.

FOR FURTHER INFORMATION CONTACT: You may request further information or obtain copies of the proposed information collection request from Ben Burshia at (202) 219-1195.

SUPPLEMENTARY INFORMATION: The Paperwork Reduction Act of 1995 provides an opportunity for interested parties to comment on proposed information collection requests. This collection covers 25 CFR part 151 as presently approved. The Bureau of Indian Affairs, Division of Real Estate Services, is proceeding with this public comment period as the first step in obtaining a normal information collection clearance from OMB. The request contains (1) type of review, (2) title, (3) summary of the collection, (4) respondents, (5) frequency of collection, (6) reporting and recordkeeping requirements, and (7) reason for response.

25 CFR Part 151—Land Acquisitions

Type of Review: Extension of a currently approved collection.

Title: 25 CFR Part 151, Acquisition of Title to Land in Trust.

Summary: The Secretary of the Interior has statutory authority to acquire lands in trust status for individual Indians and federally recognized Indian tribes. The Secretary requests information in order to identify the party(ies) involved and a description of the land in question. Respondents are Native American tribes or individuals who request acquisition of real property into trust status. The Secretary also requests additional information necessary to satisfy those pertinent factors listed in 25 CFR 151.10 or 151.11. The information is used to determine whether or not the Secretary will approve an applicant's request. No specific form is used, but respondents supply information and data, in accordance with 25 CFR 151, so that the Secretary may make an evaluation and determination in accordance with established Federal factors, rules and policies.

Frequency of Collection: One Time.

Description of Respondents: Native American tribes and individuals desiring acquisition of lands in trust status.

Total Respondents: 1,000.

Total Annual Responses: 1,000.

Total Annual Burden Hours: 59,300 hours.

Reason for Response: Required to obtain or retain benefits.

The Bureau of Indian Affairs solicits comments in order to:

(1) Evaluate whether the proposed collection of information is necessary for the proper performance of the functions of the bureau, including whether the information will have practical utility;

(2) Evaluate the bureau's estimate of the burden of the proposed collection of information, including the validity of the methodology and assumptions used;

(3) Enhance the quality, utility, and clarity of the information to be collected; and

(4) Minimize the burden of the collection of information on those who are to respond.

Any public comments will be addressed in the Bureau of Indian Affairs' submission of the information collection request to the Office of Management and Budget.

We will not sponsor nor conduct a request for information, and you need not respond to such a request unless there is a valid OMB Control Number.

Please note that comments are open to public review; if you wish to have your name and address withheld from the reviewing public, you must state so prominently at the beginning of your comments. We will honor your request to the limit of the appropriate laws. All comments from businesses or their representatives will be available for public review. We may decide to withhold information for other reasons.

Dated: December 8, 2006.
Michael D. Olsen,
Principal Deputy Assistant Secretary—Indian Affairs.

[FR Doc. E6-21183 Filed 12-12-06; 8:45 am]

BILLING CODE 4310-W7-P